Title 3—

The President

Proclamation 10764 of May 21, 2024

National Maritime Day, 2024

By the President of the United States of America

A Proclamation

Our Nation's merchant mariners embody the highest aspirations of our democracy, always answering our country's call with commitment and courage. Today, we honor their service and sacrifice. Together, we recommit to meeting our sacred obligation to care for them and their families.

Unbreaking and unbending in their devotion to duty, our merchant mariners have stood for our Nation's freedom and liberty throughout history—from delivering critical goods and troops to the battlefields of World War II to responding to devastating natural disasters around the world and shipping the goods and military cargo that keep our Nation safe and prosperous. Today, our merchant mariners are continuing this legacy of service, delivering humanitarian aid to people in need and transporting military equipment around the world. At the same time, merchant mariners are engines of our economy. They facilitate international trade and strengthen our supply chains by transporting billions of dollars of goods across oceans, seas, and waterways to the hands of American businesses and consumers.

Our merchant mariners have always met the moment—and my Administration will always have their backs. That is why we are ensuring that ships traveling between United States ports are American-built, American-owned, and American-crewed by enforcing the Jones Act. This will not only support American shipbuilding but will also support good union jobs. Meanwhile, we have made historic investments in our Nation's infrastructure, including rebuilding our ports so that they are safer, cleaner, and easier and more affordable to move through.

We also recognize that our merchant mariners are strongest when they reflect the full diversity of our Nation. My Budget proposes $191 million for the United States Merchant Marine Academy to educate and train the next generation of seagoing officers and maritime leaders. Additionally, my Administration established Every Mariner Builds A Respectful Culture Standards to prevent sexual assault and harassment and to support survivors.

Today, as we honor all that merchant mariners have done for our Nation, we also recognize the mariners who have made the ultimate sacrifice for our Nation. We owe these fallen heroes a debt of gratitude we can never fully repay. But our Nation will never forget their legacy and that of every mariner who has dared all, risked all, and given all for our Nation.

The Congress, by a joint resolution approved May 20, 1933, has designated May 22 of each year as “National Maritime Day” to commemorate the first transoceanic voyage by a steamship in 1819 by the S.S. Savannah. By this resolution, the Congress has authorized and requested the President to issue annually a proclamation calling for its appropriate observance. I also request that all ships sailing under the American flag dress ship on that day.

NOW, THEREFORE, I, JOSEPH R. BIDEN JR., President of the United States of America, do hereby proclaim May 22, 2024, as National Maritime Day. I call upon all Americans to observe this day and to celebrate the United States Merchant Marine and maritime industry with appropriate programs, ceremonies, and activities.

IN WITNESS WHEREOF, I have hereunto set my hand this twenty-first day of May, in the year of our Lord two thousand twenty-four, and of the Independence of the United States of America the two hundred and forty-eighth.

[FR Doc. 2024-11641

Filed 5-23-24; 8:45 am]

Billing code 3395-F4-P